DEPARTMENT OF THE INTERIOR

Bureau of Land Management

[LLNVS00560.L58530000.FR0000.241A; N-57230; 11-08807; MO#450020986; TAS:14X5232]

Notice of Correction for Conveyance of Public Lands for Airport Purposes in Clark County, NV

AGENCY: Bureau of Land Management, Interior.

ACTION: Notice of correction.

SUMMARY: This notice corrects the legal land description published in the Federal Register on March 1, 2011 (76 FR 11262) for the Department of the Interior, Bureau of Land Management, City of Henderson, Clark County, Nevada.

FOR FURTHER INFORMATION CONTACT: Philip Rhinehart, (702) 515-5182, or prhineha@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The lands for conveyance to the Clark County Department of Aviation for the Henderson Executive Airport are correctly and legally described as:

Mount Diablo Meridian

T. 23 S. R. 61 E.

Sec. 10, S½SE¼NE¼NE¼, S½NE¼SE¼NE¼, SE¼SE¼NE¼, SW¼SE¼NE¼, N½NE¼NE¼SE¼, NW14NE14SE¼, N½SE¼NE¼SE¼;

Sec. 11, W½NW¼, NW¼NW¼SW¼, NE¼NW¼SW¼, N½SW¼NW¼SW¼, N½SE¼NW¼SW¼.

The area described contains 160 acres, more or less, in Clark County.

Authority: 43 CFR 2911.0-1.

Vanessa L. Hice,
Acting Assistant Field Manager, Division of Lands.

[FR Doc. 2011-12626 Filed 5-20-11; 8:45 am]

BILLING CODE 4310-HC-P